DEPARTMENT OF HOMELAND SECURITY

Federal Emergency Management Agency

[Docket ID FEMA-2024-0002; Internal Agency Docket No. FEMA-B-2401]

Changes in Flood Hazard Determinations

AGENCY: Federal Emergency Management Agency, Department of Homeland Security.

ACTION: Notice.

SUMMARY: This notice lists communities where the addition or modification of Base Flood Elevations (BFEs), base flood depths, Special Flood Hazard Area (SFHA) boundaries or zone designations, or the regulatory floodway (hereinafter referred to as flood hazard determinations), as shown on the Flood Insurance Rate Maps (FIRMs), and where applicable, in the supporting Flood Insurance Study (FIS) reports, prepared by the Federal Emergency Management Agency (FEMA) for each community, is appropriate because of new scientific or technical data. The FIRM, and where applicable, portions of the FIS report, have been revised to reflect these flood hazard determinations through issuance of a Letter of Map Revision (LOMR), in accordance with Federal Regulations. The currently effective community number is shown in the table below and must be used for all new policies and renewals.

DATES: These flood hazard determinations will be finalized on the dates listed in the table below and revise the FIRM panels and FIS report in effect prior to this determination for the listed communities.

From the date of the second publication of notification of these changes in a newspaper of local circulation, any person has 90 days in which to request through the community that the Deputy Associate Administrator for Insurance and Mitigation reconsider the changes. The flood hazard determination information may be changed during the 90-day period.

ADDRESSES: The affected communities are listed in the table below. Revised flood hazard information for each community is available for inspection at both the online location and the respective community map repository address listed in the table below. Additionally, the current effective FIRM and FIS report for each community are accessible online through the FEMA Map Service Center at https://msc.fema.gov for comparison.

Submit comments and/or appeals to the Chief Executive Officer of the community as listed in the table below.

FOR FURTHER INFORMATION CONTACT: Rick Sacbibit, Chief, Engineering Services Branch, Federal Insurance and Mitigation Administration, FEMA, 400 C Street SW, Washington, DC 20472, (202) 646-7659, or (email) patrick.sacbibit@fema.dhs.gov; or visit the FEMA Mapping and Insurance eXchange (FMIX) online at https://www.floodmaps.fema.gov/fhm/fmx_main.html.

SUPPLEMENTARY INFORMATION: The specific flood hazard determinations are not described for each community in this notice. However, the online location and local community map repository address where the flood hazard determination information is available for inspection is provided.

Any request for reconsideration of flood hazard determinations must be submitted to the Chief Executive Officer of the community as listed in the table below.

The modifications are made pursuant to section 201 of the Flood Disaster Protection Act of 1973, 42 U.S.C. 4105, and are in accordance with the National Flood Insurance Act of 1968, 42 U.S.C. 4001 et seq., and with 44 CFR part 65.

The FIRM and FIS report are the basis of the floodplain management measures that the community is required either to adopt or to show evidence of having in effect in order to qualify or remain qualified for participation in the National Flood Insurance Program (NFIP).

These flood hazard determinations, together with the floodplain management criteria required by 44 CFR 60.3, are the minimum that are required. They should not be construed to mean that the community must change any existing ordinances that are more stringent in their floodplain management requirements. The community may at any time enact stricter requirements of its own or pursuant to policies established by other Federal, State, or regional entities. The flood hazard determinations are in accordance with 44 CFR 65.4.

The affected communities are listed in the following table. Flood hazard determination information for each community is available for inspection at both the online location and the respective community map repository address listed in the table below. Additionally, the current effective FIRM and FIS report for each community are accessible online through the FEMA Map Service Center at https://msc.fema.gov for comparison.

(Catalog of Federal Domestic Assistance No. 97.022, “Flood Insurance.”)

Nicholas A. Shufro,
Deputy Assistant Administrator for Risk Management, Federal Emergency Management Agency, Department of Homeland Security.

State and county | Location and case No. | Chief executive officer of community | Community map repository | Online location of letter of map revision | Date of modification | Community No.
Arkansas: Washington | City of Fayetteville (23-06-0884P). | The Honorable Lioneld Jordan, Mayor, City of Fayetteville, 113 West Mountain Street, Fayetteville, AR 72701. | City Hall, 113 West Mountain Street, Fayetteville, AR 72701. | https://msc.fema.gov/portal/advanceSearch. | Feb. 20, 2024 | 050216
Colorado:
Boulder | City of Lafayette (23-08-0459P). | The Honorable J. D. Mangat, Mayor, City of Lafayette, 1290 South Public Road, Lafayette, CO 80026. | Planning Department, 1290 South Public Road, Lafayette, CO 80026. | https://msc.fema.gov/portal/advanceSearch. | Apr. 15, 2024 | 080026
Boulder | Unincorporated areas of Boulder County (23-08-0459P). | Claire Levy, Chair, Boulder County Board of Commissioners, P.O. Box 471, Boulder, CO 80306. | Boulder County Transportation Department, 1739 Broadway, Suite 300, Boulder, CO 80306. | https://msc.fema.gov/portal/advanceSearch. | Apr. 15, 2024 | 080023
Broomfield | City and County of Broomfield (23-08-0459P). | The Honorable Guyleen Castriotta, Mayor, City and County of Broomfield, 1 DesCombes Drive, Broomfield, CO 80020. | Engineering Department, 1 DesCombes Drive, Broomfield, CO 80020. | https://msc.fema.gov/portal/advanceSearch. | Apr. 15, 2024 | 085073
Delaware: New Castle | Unincorporated areas of New Castle County (23-03-0137P). | Matthew Meyer, New Castle County Executive, 87 Read's Way, New Castle, DE 19720. | New Castle County Government Center, 87 Read's Way, New Castle, DE 19720. | https://msc.fema.gov/portal/advanceSearch. | Feb. 15, 2024 | 105085
Florida:
Lee | Unincorporated areas of Lee County (23-04-3191P). | David Harner, Lee County Manager, 2115 2nd Street, Fort Myers, FL 33901. | Lee County Building Department, 1500 Monroe Street, Fort Myers, FL 33901. | https://msc.fema.gov/portal/advanceSearch. | Mar. 22, 2024 | 125124
Miami-Dade | Town of Surfside (23-04-5056P). | The Honorable Shlomo Danzinger, Mayor, Town of Surfside, 9293 Harding Avenue, Surfside, FL 33154. | Town Hall, 9293 Harding Avenue, Surfside, FL 33154. | https://msc.fema.gov/portal/advanceSearch. | Apr. 18, 2024 | 120659
Sarasota | City of Sarasota (23-04-4295P). | The Honorable Kyle Scott Battie, Mayor, City of Sarasota, 1565 1st Street, Room 101, Sarasota, FL 34236. | Development Service Department, 1565 1st Street, Room 101, Sarasota, FL 34236. | https://msc.fema.gov/portal/advanceSearch. | Mar. 27, 2024 | 125150
Massachusetts:
Middlesex | City of Lowell (23-01-0132P). | Thomas A. Golden, Jr., Manager, City of Lowell, 375 Merrimack Street, 2nd Floor, Room 43, Lowell, MA 01852. | Fire Department Administration Office, 99 Moody Street, Lowell, MA 01852. | https://msc.fema.gov/portal/advanceSearch. | Feb. 23, 2024 | 250201
Middlesex | Town of Chelmsford (23-01-0132P). | Paul Cohen, Manager, Town of Chelmsford, 50 Billerica Road, Chelmsford, MA 01824. | Community Development Department, 50 Billerica Road, Chelmsford, MA 01824. | https://msc.fema.gov/portal/advanceSearch. | Feb. 23, 2024 | 250188
Suffolk | City of Revere (24-01-0009P). | The Honorable Patrick M. Keefe, Jr., Acting Mayor, City of Revere, 281 Broadway, Revere, MA 02151. | City Hall, 281 Broadway, Revere, MA 02151. | https://msc.fema.gov/portal/advanceSearch. | Mar. 21, 2024 | 250288
Montana: Lewis and Clark | Unincorporated areas of Lewis and Clark County (23-08-0467P). | Tom Rolfe, Chair, Lewis and Clark County Board of Commissioners, 316 North Park Avenue, Room 345, Helena, MT 59623. | Lewis and Clark County Department of Floodplain Development, 316 North Park Avenue, Room 230, Helena, MT 59623. | https://msc.fema.gov/portal/advanceSearch. | Apr. 8, 2024 | 300038
North Carolina:
Buncombe | Unincorporated areas of Buncombe County (24-04-0526P) | Brownie Newman, Chair, Buncombe County Board of Commissioners, 200 College Street, Suite 300, Asheville, NC 28801. | Buncombe County Planning and Development, 46 Valley Street, Asheville, NC 28801. | https://msc.fema.gov/portal/advanceSearch. | Apr. 1, 2024 | 370031
Forsyth | City of Winston-Salem (24-04-0523P) | The Honorable Allen Joines, Mayor, City of Winston-Salem, P.O. Box 2511, Winston-Salem, NC 27102. | Planning and Development Services Department, 100 East 1st Street, Winston-Salem, NC 27101. | https://msc.fema.gov/portal/advanceSearch. | Apr. 2, 2024 | 375360
Forsyth | Unincorporated areas of Forsyth County (24-04-0523P) | The Honorable David Plyler, Chair, Forsyth County Board of Commissioners, 201 North Chestnut Street, Winston-Salem, NC 27101 | Forsyth County Planning and Development Services, 100 East First Street, Winston-Salem, NC 27101 | https://msc.fema.gov/portal/advanceSearch. | Apr. 2, 2024 | 375349
Madison | Unincorporated areas of Madison County (24-04-0526P) | Matthew Wechtel, Chair, Madison County Board of Commissioners, P.O. Box 579, Marshall, NC 28753. | Madison County Development Services Development, 5707 U.S. Highway 25/70, Marshall, NC 28779. | https://msc.fema.gov/portal/advanceSearch. | Apr. 1, 2024 | 370152
Rowan | Town of Landis (22-04-3669P) | The Honorable Meredith Smith, Mayor, Town of Landis, P.O. Box 8165, Landis, NC 28088. | Town Hall, 312 South Main Street, Landis, NC 28088. | https://msc.fema.gov/portal/advanceSearch. | Apr. 1, 2024 | 370213
Rowan | Unincorporated areas of Rowan County (22-04-3669P) | The Honorable Greg Edds, Chair, Rowan County Board of Commissioners, 130 West Innes Street, Salisbury, NC 28144 | Rowan County Planning and Development Department, 402 North Main Street, #204, Salisbury, NC 28144 | https://msc.fema.gov/portal/advanceSearch. | Apr. 1, 2024 | 370351
Wake | Town of Rolesville (24-04-0517P) | The Honorable Ronnie Currin, Mayor, Town of Rolesville, P.O. Box 250, Rolesville, NC 27571. | Planning Department, 502 Southtown Circle, Rolesville, NC 27571. | https://msc.fema.gov/portal/advanceSearch. | Apr. 11, 2024 | 370468
Wake | Town of Wake Forest (24-04-0517P) | The Honorable Vivian A. Jones, Mayor, Town of Wake Forest, 301 South Brooks Street, Wake Forest, NC 27587. | Planning Department, 301 South Brooks Street, Wake Forest, NC 27587. | https://msc.fema.gov/portal/advanceSearch. | Apr. 11, 2024 | 370244
Wake | Unincorporated areas of Wake County (24-04-0517P) | Shinica Thomas, Chair, Wake County Board of Commissioners, P.O. Box 550, Raleigh, NC 27602. | Wake County Environmental Services Department, 337 South Salisbury Street, Raleigh, NC 27601. | https://msc.fema.gov/portal/advanceSearch. | Apr. 11, 2024 | 370368
Oklahoma:
Logan | City of Guthrie (23-06-0569P). | The Honorable Steven J. Gentling, Mayor, City of Guthrie, 101 North 2nd Street, Guthrie, OK 73044. | City Hall, 101 North 2nd Street, Guthrie, OK 73044. | https://msc.fema.gov/portal/advanceSearch. | Mar. 7, 2024 | 400099
Logan | Unincorporated areas of Logan County (23-06-0569P). | Monty Piearcy, Chair, Logan County Board of Commissioners, 312 East Harrison Avenue, Guthrie, OK 73044. | Logan County Emergency Management Department, 219 South Broad Street, Guthrie, OK 73044. | https://msc.fema.gov/portal/advanceSearch. | Mar. 7, 2024 | 400096
Texas:
Collin | City of Blue Ridge (23-06-0921P). | The Honorable Rhonda Williams, Mayor, City of Blue Ridge, 200 South Main Street, Blue Ridge, TX 75424. | Public Works Department, 200 South Main Street, Blue Ridge, TX 75424. | https://msc.fema.gov/portal/advanceSearch. | Mar. 11, 2024 | 481628
Collin | City of Celina (23-06-0718P). | The Honorable Ryan Tubbs, Mayor, City of Celina, 142 North Ohio Street, Celina, TX 75009. | City Hall, 142 North Ohio Street, Celina, TX 75009. | https://msc.fema.gov/portal/advanceSearch. | Feb. 20, 2024 | 480133
Collin | City of McKinney (23-06-1123P). | The Honorable George Fuller, Mayor, City of McKinney, 222 North Tennessee Street, McKinney, TX 75069. | City Hall, 222 North Tennessee Street, McKinney, TX 75069. | https://msc.fema.gov/portal/advanceSearch. | Apr. 1, 2024 | 480135
Collin | City of Murphy (23-06-1486P). | The Honorable Scott Bradley, Mayor, City of Murphy, 206 North Murphy Road, Murphy, TX 75094. | City Hall, 206 North Murphy Road, Murphy, TX 75094. | https://msc.fema.gov/portal/advanceSearch. | Mar. 29, 2024 | 480137
Dallas | City of Dallas (23-06-1122P). | The Honorable Eric Johnson, Mayor, City of Dallas, 1500 Marilla Street, Suite 5EN, Dallas, TX 75201. | Floodplain Management Department, 2245 Irving Boulevard, 2nd Floor, Dallas, TX 75207. | https://msc.fema.gov/portal/advanceSearch. | Mar. 4, 2024 | 480171
Dallas | City of Garland (23-06-1006P). | The Honorable Scott LeMay, Mayor, City of Garland, 200 North 5th Street, Garland, TX 75040. | City Hall, 200 North 5th Street, Garland, TX 75040. | https://msc.fema.gov/portal/advanceSearch. | Mar. 11, 2024 | 485471
Dallas | City of Mesquite (23-06-1636P). | The Honorable Daniel Alemán, Jr., Mayor, City of Mesquite, P.O. Box 850137, Mesquite, TX 75185. | City Hall, 757 North Galloway Avenue, Mesquite, TX 75149. | https://msc.fema.gov/portal/advanceSearch. | Apr. 8, 2024 | 485490
Dallas | City of Rowlett (23-06-1006P). | The Honorable Blake Margolis, Mayor, City of Rowlett, 4000 Main Street, Rowlett, TX 75088. | Community Development Department, 5702 Rowlett Road, Rowlett, TX 75089. | https://msc.fema.gov/portal/advanceSearch. | Mar. 11, 2024 | 480185
Dallas | City of Sachse (23-06-1006P). | The Honorable Jeff Bickerstaff, Mayor, City of Sachse, 3815 Sachse Road, Building B, Sachse, TX 75048. | City Hall, 3815 Sachse Road, Building B, Sachse, TX 75048. | https://msc.fema.gov/portal/advanceSearch. | Mar. 11, 2024 | 480186
Denton | Town of Argyle (23-06-1120P). | The Honorable Rick Bradford, Mayor, Town of Argyle, P.O. Box 609, Argyle, TX 76226. | Town Hall, 308 Denton Street, Argyle, TX 76226. | https://msc.fema.gov/portal/advanceSearch. | Mar. 1, 2024 | 480775
Denton | Town of Flower Mound (23-06-1120P). | The Honorable Derek France, Mayor, Town of Flower Mound, 2121 Cross Timbers Road, Flower Mound, TX 75028. | Town Hall, 2121 Cross Timbers Road, Flower Mound, TX 75028. | https://msc.fema.gov/portal/advanceSearch. | Mar. 1, 2024 | 480777
Grayson | City of Denison (23-06-0905P). | The Honorable Janet Gott, Mayor, City of Denison, 300 West Main Street, Denison, TX 75020. | Department of Public Works, 300 West Main Street, Denison, TX 75020. | https://msc.fema.gov/portal/advanceSearch. | Feb. 20, 2024 | 480259
Harris | Unincorporated areas of Harris County (22-06-2700P). | The Honorable Lina Hidalgo, Harris County Judge, 1001 Preston Street, Suite 911, Houston, TX 77002. | Harris County Permit Office, 1111 Fannin Street, 8th Floor, Houston, TX 77002. | https://msc.fema.gov/portal/advanceSearch. | Mar. 4, 2024 | 480287
Medina | Unincorporated areas of Medina County (23-06-1697P). | The Honorable Keith Lutz, Medina County Judge, 1300 Avenue M, Room 250, Hondo, TX 78861. | Medina County Old Jail Building, 1502 Avenue K, Hondo, TX 78861. | https://msc.fema.gov/portal/advanceSearch. | Mar. 8, 2024 | 480472
Travis | Unincorporated areas of Travis County (23-06-1281P). | The Honorable Andy Brown, Travis County Judge, P.O. Box 1748, Austin, TX 78767. | Travis County Transportation and Natural Resources Department, 700 Lavaca Street, 5th Floor, Austin, TX 78701. | https://msc.fema.gov/portal/advanceSearch. | Apr. 1, 2024 | 481026
Utah: Washington | Town of Springdale (23-08-0323P). | Rick Wixom, Manager, Town of Springdale, 118 Lion Boulevard, Springdale, UT 84767. | Community Development Department, 118 Lion Boulevard, Springdale, UT 84767. | https://msc.fema.gov/portal/advanceSearch. | Apr. 18, 2024 | 490179
Virginia: Chesterfield | Unincorporated areas of Chesterfield County (23-03-0270P). | Joseph P. Casey, Chesterfield County Administrator, 9901 Lori Road, Chesterfield, VA 23832. | Chesterfield County Community Development Department, 9800 Government Center Parkway, Chesterfield, VA 23832. | https://msc.fema.gov/portal/advanceSearch. | Mar. 22, 2024 | 510035
West Virginia: Tucker | Unincorporated areas of Tucker County (23-03-0296P). | Michael Rosenau, President, Tucker County Commission, 211 1st Street, Suite 307, Parsons, WV 26287. | Tucker County Floodplain Administration, 211 1st Street, Suite 1, Parsons, WV 26287. | https://msc.fema.gov/portal/advanceSearch. | Feb. 8, 2024 | 540191

[FR Doc. 2024-00479 Filed 1-10-24; 8:45 am]

BILLING CODE 9110-12-P